RAILROAD RETIREMENT BOARD

Agency Forms Submitted for OMB Review, Request for Comments

SUMMARY: In accordance with the Paperwork Reduction Act of 1995 (44 U.S.C. Chapter 35), the Railroad Retirement Board (RRB) is forwarding three Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Application for Survivor Insurance Annuities; OMB 3220-0030.

Under Section 2(d) of the Railroad Retirement Act (RRA), monthly survivor annuities are payable to surviving widow(er)s, parents, unmarried children, and in certain cases, divorced spouses, mothers (fathers), remarried widow(er)s, and grandchildren of deceased railroad employees if there are no qualified survivors of the employee immediately eligible for an annuity. The requirements relating to the annuities are prescribed in 20 CFR 216, 217, 218, and 219.

To collect the information needed to help determine an applicant's entitlement to, and the amount of, a survivor annuity the RRB uses Forms AA-17, Application for Widow(er)'s Annuity; AA-17b, Applications for Determination of Widow(er)'s Disability; AA-18, Application for Mother's/Father's and Child's Annuity; AA-19, Application for Child's Annuity; AA-19a, Application for Determination of Child's Disability; AA-20, Application for Parent's Annuity, and electronic Forms AA-17cert, Application Summary and Certification, and AA-17sum, Application Summary.

The AA-17 application process obtains information from an applicant about their marital history, work history, benefits from other government agencies, and Medicare entitlement for a survivor annuity. An RRB representative interviews the applicant either at a field office (preferred), an itinerant point, or by telephone. During the interview, the RRB representative enters the information obtained into an on-line information system. Upon completion of the interview, the on-line information system generates a summary of the information that was provided on either Form AA-17cert, Application Summary and Certification, or Form AA-17sum, Application Summary, for the applicant to review and approve. Form AA-17cert documents approval using the traditional pen and ink “wet” signature, and Form AA-17sum, documents approval using the alternative signature method called Attestation. When the RRB representative is unable to contact the applicant in person or by telephone, for example, the applicant lives in another country, a manual version of Form AA-17 is used.

One response is requested of each respondent. Completion of the forms is required to obtain a benefit.

Previous Requests for Comments: The RRB has already published the initial 60-day notice (80 FR 75140 on December 1, 2015) required by 44 U.S.C. 3506(c)(2). That request elicited no comments.

Information Collection Request (ICR)

Title: Application for Survivor Insurance Annuities.

OMB Control Number: 3220-0030.

Form(s) submitted: AA-17, AA-17b, AA-17cert, AA-17sum, AA-18, AA-19, AA-19a, and AA-20.

Type of request: Revision of a currently approved collection.

Affected public: Individuals or Households.

Abstract: Under Section 2(d) of the Railroad Retirement Act, monthly survivor annuities are payable to surviving widow(er)s, parents, unmarried children, and in certain cases, divorced wives (husbands), mothers (fathers), remarried widow(er)s and grandchildren of deceased railroad employees. The collection obtains information needed by the RRB to determine entitlement to and the amount of the annuity applied for.

Changes proposed: The RRB proposes to remove the manual version of Forms AA-17, AA-18, AA-19 and AA-20 from the information collection due to receiving less than 10 responses annually. No changes are proposed to Forms AA-17b and AA-19a.

The burden estimate for the ICR is as follows:

Form number | Annual responses | Time (minutes) | Burden (hours)
AA-17 Application Process:
AA-17cert | 900 | 20 | 300
AA-17sum | 2,100 | 19 | 665
AA-17b:
(With assistance) | 250 | 40 | 167
(Without assistance) | 20 | 50 | 17
AA-19a:
(Without assistance) | 200 | 45 | 150
(Without assistance) | 15 | 65 | 16
Total | 3,485 |  | 1,315

2. Title and purpose of information collection: Application for Spouse Annuity Under the Railroad Retirement Act; OMB 3220-0042.

Section 2(c) of the Railroad Retirement Act (RRA), provides for the payment of annuities to spouses of railroad retirement annuitants who meet the requirements under the RRA. The age requirements for a spouse annuity depend on the employee's age, date of retirement, and years of railroad service. The requirements relating to the annuities are prescribed in 20 CFR 216, 218, 219, 232, 234, and 295.

To collect the information needed to help determine an applicant's entitlement to, and the amount of, a spouse annuity the RRB uses Form AA-3, Application for Spouse/Divorced Spouse Annuity, and electronic Forms AA-3cert, Application Summary and Certification, and AA-3sum, Application Summary.

The AA-3 application process gathers information from an applicant about their marital history, work history, benefits from other government agencies, railroad pensions and Medicare entitlement for a spouse annuity. An RRB representative interviews the applicant either at a field office (preferred), an itinerant point, or by telephone. During the interview, the RRB representative enters the information obtained into an on-line information system. Upon completion of the interview, the on-line information system generates a summary of the information that was provided on either Form AA-3cert, Application Summary and Certification, or Form AA-3sum, Application Summary, for the applicant to review and approve. Form AA-3cert documents approval using the traditional pen and ink “wet” signature, and Form AA-3sum documents approval using the alternative signature method called Attestation. When the RRB representative is unable to contact the applicant in person or by telephone, for example, the applicant lives in another country, a manual version of Form AA-3 is used.

One response is requested of each respondent. Completion of the forms is required to obtain a benefit.

Previous Requests for Comments: The RRB has already published the initial 60-day notice (80 FR 75141 on December 1, 2015) required by 44 U.S.C. 3506(c)(2). That request elicited no comments.

Information Collection Request (ICR)

Title: Application for Spouse Annuity Under the Railroad Retirement Act.

OMB Control Number: 3220-0042.

Form(s) submitted: AA-3, AA-3cert, and AA-3sum.

Type of request: Revision of a currently approved collection.

Affected public: Individuals or Households.

Abstract: The Railroad Retirement Act provides for the payment of annuities to spouses of railroad retirement annuitants who meet the requirements under the Act. The application obtains information supporting the claim for benefits based on being a spouse of an annuitant. The information is used for determining entitlement to and amount of the annuity applied for.

Changes proposed: The RRB proposes to remove the manual version of Form AA-3, from the information collection due to receiving less than 10 responses annually.

The burden estimate for the ICR is as follows:

Form number | Annual responses | Time (minutes) | Burden (hours)
AA-3 online process:
AA-3cert (with assistance) | 4,700 | 30 | 2,350
AA-3sum (with assistance) | 7,000 | 29 | 3,383
Total | 11,700 |  | 5,733

3. Title and Purpose of information collection: Request for Medicare Payment; OMB 3220-0131.

Under Section 7(d) of the Railroad Retirement Act, the RRB administers the Medicare program for persons covered by the railroad retirement system. The collection obtains the information needed by Palmetto GBA, the Medicare carrier for railroad retirement beneficiaries, to pay claims for payments under Part B of the Medicare program. Authority for collecting the information is prescribed in 42 CFR 424.32.

The RRB currently utilizes Forms G-740S, Patient's Request for Medicare Payment, along with Centers for Medicare & Medicaid Services Form CMS-1500, to secure the information necessary to pay Part B Medicare Claims. One response is completed for each claim. Completion is required to obtain a benefit.

Previous Requests for Comments: The RRB has already published the initial 60-day notice (80 FR 72998 on November 23, 2015) required by 44 U.S.C. 3506(c)(2). That request elicited no comments.

Information Collection Request (ICR)

Title: Request for Medicare Payment.

OMB Control Number: 3220-0131.

Form(s) submitted: G-740S, CMS-1500.

Type of request: Extension without change of a currently approved collection.

Affected public: Individuals or Households.

Abstract: The RRB administers the Medicare program for persons covered by the Railroad Retirement System. The collection obtains the information needed by Palmetto GBA, the RRB's carrier, to pay claims for services covered under Part B of the program.

Changes proposed: The RRB proposes no changes to RRB Form G-740S.

The burden estimate for the ICR is as follows:

Estimated annual number of respondents: See Justification (Item No. 12).

Total annual responses: 1.

Total annual reporting hours: 1.

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois, 60611-2092 or Charles.Mierzwa@RRB.GOV and to the OMB Desk Officer for the RRB, Fax: 202-395-6974, Email address: OIRA_Submission@omb.eop.gov.

Charles Mierzwa,
Chief of Information Resources Management.

[FR Doc. 2016-03328 Filed 2-17-16; 8:45 am]

BILLING CODE 7905-01-P